DEPARTMENT OF TRANSPORTATION

Federal Aviation Administration

Notice of Intent of Waiver With Respect to Land; Akron-Canton Airport, North Canton, OH

AGENCY: Federal Aviation Administration (FAA), DOT.

ACTION: Notice.

SUMMARY: The FAA is considering a proposal to change 7 acres of airport land from aeronautical use to non-aeronautical use and to authorize the lease of airport property located at Akron-Canton Airport, North Canton, OH. The aforementioned land is not needed for aeronautical use. The parcel is located in the Northeast quadrant of the airport, immediately east of the Runway 19 approach surface. The parcel identification number is #2815572. The property is currently designated as aeronautical use for compatible land use in support of the airfield approach area. The proposed non-aeronautical use is for recreational vehicle storage and sales facility.

DATES: Comments must be received on or before February 7, 2018.

ADDRESSES: Documents are available for review by appointment at the FAA Detroit Airports District Office, Evonne M. McBurrows, 11677 South Wayne Road, Suite 107, Romulus, MI 48174. Telephone: (734) 229-2900/Fax: (734) 229-2950 and Akron-Canton Airport, 5400 Lauby Road NW #9, North Canton, Ohio. Telephone: (330) 499-4059.

Written comments on the Sponsor's request must be delivered or mailed to: Evonne M. McBurrows, Program Manager, Federal Aviation Administration, Detroit Airports District Office, 11677 South Wayne Road, Suite 107, Romulus, MI 48174, Telephone Number: (734) 229-2900/FAX Number: (734) 229-2950.

FOR FURTHER INFORMATION CONTACT: Evonne M. McBurrows, Program Manager, Federal Aviation Administration, Detroit Airports District Office, 11677 South Wayne Road, Suite 107, Romulus, MI 48174. Telephone Number: (734) 229-2900/FAX Number: (734) 229-2950.

SUPPLEMENTARY INFORMATION: In accordance with section 47107(h) of Title 49, United States Code, this notice is required to be published in the Federal Register 30 days before modifying the land-use assurance that requires the property to be used for an aeronautical purpose.

The property is currently designated as aeronautical use for compatible land use. This parcel of land (7 acres) was acquired with Airport Improvement Program (AIP) federal funds under AIP Grant #6-39-0001-08. Akron-Canton Regional Airport Authority (AA) proposed non-aeronautical use is for recreational vehicle storage and sales facility. AA will lease the land and receive fair market value.

The disposition of proceeds from the lease of the airport property will be in accordance with FAA's Policy and Procedures Concerning the Use of Airport Revenue, published in the Federal Register on February 16, 1999 (64 FR 7696).

This notice announces that the FAA is considering the release of the subject airport property at the Akron-Canton Airport, North Canton, OH from its obligations to be maintained for aeronautical purposes. Approval does not constitute a commitment by the FAA to financially assist in the change in use of the subject airport property nor a determination of eligibility for grant-in-aid funding from the FAA.

Description of a 7.006 Acre Lease Area

Situated in the City of Green, County of Summit, State of Ohio and being part of the Northwest Quarter of Section 25, of former Green Township, and being part of a 130.389 acre tract as conveyed to Akron-Canton Regional Airport Authority as recorded in Reception Number 55559106 of the Summit County Fiscal Office;

Commencing at a 1 inch bar in a monument box found at the intersection of the centerline of Mayfair Road (T.R. 244) with the centerline of Greensburg Road (C.H. 133);

Thence N 88°27′43′ W along the south line of said Northwest Quarter of Section 25 and the centerline of said Greensburg Road, a distance of 2602.75 feet to a point at the southwesterly corner of a 2.08 acre parcel conveyed to Overhead Door Corporation by Reception Number 55669449 of the Summit County Fiscal Office and a southeasterly corner of said Akron-Canton Regional Airport Authority parcel;

Thence N 01°37′33″ E along the easterly line of said Akron-Canton Regional Airport Authority parcel and the westerly line of said Overhead Door Corporation parcel, a distance of 499.21 feet to a ⅝ inch rebar found at the northwesterly corner of said Overhead Door Corporation parcel (passing over a ⅝ inch rebar found on the north right of way line of said Greensburg Road at 61.25 feet), and being the True Place Of Beginning for the parcel herein described;

1. Thence N 01°37′33″ E on a new lease line and along the northerly extension of said westerly line of said Overhead Door Corporation parcel, a distance of 489.57 feet to a point on the easterly line of an area designated by said Akron-Canton Regional Airport Authority as “RUNWAY 19 APPROACH AND PROTECTION ZONE (19 RPZ)”;

2. Thence N 10°18′22″ E on a new lease line and along the easterly line of said “19 RPZ”, a distance of S 10.67 feet to a point on the southwesterly existing limited-access right of way line of Interstate 77 and the northeasterly line of said Akron-Canton Regional Airport Authority parcel;

3. Thence S 33°57′37″ E along the northeasterly line of said Akron-Canton Regional Airport Authority parcel and said limited access right of way line of Interstate 77, a distance of 554.65 feet to a ⅝ inch iron bar found at the northeast corner of said Akron-Canton Regional Airport Authority parcel and the northwest corner of a 7.706 acre parcel conveyed to Canton Green, LLC by Reception Number 55538275 of the Summit County Fiscal Office.

4. Thence S 01°37′33″ W along the easterly line of said Akron-Canton Regional Airport Authority parcel the westerly line of said Canton Green, LLC parcel, a distance of 542.51 feet to a ¾ inch iron pipe found at a southeast corner of said Akron-Canton Regional Airport Authority parcel and the northeast corner of a 1.04 acre parcel conveyed to Akron Canton Regional Airport Authority by Reception Number 54282080 of the Summit County Fiscal Office;

5. Thence N 88°29′31″ W along the northerly line of said 1.04 acre Akron-Canton Regional Airport Authority parcel and the northerly line of said Overhead Door Corporation parcel, a distance of 399.84 feet (passing over a ¾ inch iron pipe found at 184.77 feet) to the True Place of Beginning, and containing 7.006 acres more or less, of which 0.000 acres are within the road right of way, subject to all easements and right of ways of record or as otherwise established. This description is based on a field survey performed under the direction of Adam R. Zearley, P. S. #8594 of Hammontree & Associates, Limited, Engineers, Planners, and Surveyors of North Canton, Ohio in June, 2016.

The basis of bearings for this description the Ohio State Plane Coordinate System, Ohio North Zone, NAD83 (2011), Geoid 12A.

Issued in Romulus, Michigan, on November 30, 2017.
John L. Mayfield, Jr.,
Manager, Detroit Airports District Office, FAA, Great Lakes Region.

[FR Doc. 2018-00129 Filed 1-5-18; 8:45 am]

BILLING CODE 4910-13-P